DEPARTMENT OF ENERGY

Federal Energy Regulatory Commission

[Project No. 14064-000]

Amnor Hydro West Inc.; Notice of Preliminary Permit Application Accepted for Filing and Soliciting Comments, Motions To Intervene, and Competing Applications

On January 24, 2011, and supplemented on April 25, 2011, May 3, 2011, and July 6, 2011, Amnor Hydro West Inc. filed an application for a preliminary permit, pursuant to section 4(f) of the Federal Power Act (FPA), proposing to study the feasibility of the Horn Rapids Dam Hydropower Project (Horn Rapids Project or project). The proposed project is located on the Yakima River, near Richland, Benton County, Washington. The sole purpose of a preliminary permit, if issued, is to grant the permit holder priority to file a license application during the permit term. A preliminary permit does not authorize the permit holder to perform any land-disturbing activities or otherwise enter upon lands or waters owned by others without the owners' express permission. The proposed project would utilize an U.S. Army Corps of Engineers dam on the Yakima reservoir.

The proposed project would utilize the existing dam and outlet works. The applicant proposes the following new structures: (1) Two intake conduits connecting to a new powerhouse near the left end of the dam; (2) two axial turbine/generator units with a combined capacity of 1.4 megawatts; (3) a tailrace discharge works returning flows to the Yakima River; (4) a 14.7-kilovolt, 3,000-foot-long transmission line extending from the powerhouse south to a proposed substation; and (5) appurtenant facilities. The estimated annual generation of the project would be 6.5 gigawatt-hours.

Applicant Contact: Mr. Adam T. Supronik, 42 Pearsall Street, Staten Island, New York 10305; phone: (347) 415-9600.

FERC Contact: Patrick Murphy; phone: (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14064-000) in the docket number field to access the document. For assistance, contact FERC Online Support.

Dated: July 18, 2011.
Kimberly D. Bose,
Secretary.

[FR Doc. 2011-18554 Filed 7-21-11; 8:45 am]

BILLING CODE 6717-01-P